DEPARTMENT OF AGRICULTURE

Forest Service

Secure Rural Schools Land Sales Initiative

AGENCY: Forest Service, USDA.

ACTION: Notice; Extension of comment period.

SUMMARY: The Forest Service is extending the comment period 30 days beyond the date of March 30, 2006 identified in the Federal Register, Volume 71, No. 39, Tuesday, February 28, 2006, pg. 10004-10006.

DATES: Comments must be received by May 1, 2006 to be assured of consideration. Comments received after that date will be considered only to the extent practicable.

ADDRESSES: You may submit your comments by e-mail to SRS_Land_Sales@fs.fed.us, by facsimile to (202) 205-1604, or by mail to USDA Forest Service, SRS Comments, Lands 4S, 1400 Independence Ave., SW., Mailstop 1124, Washington, DC 20250-0003. Electronic submission is preferred. If you submit your comments by e-mail or fax, you do not need to send a paper copy by mail.

Your comments may address the entire list of parcels indentified in the President's proposal, or an individual parcel or parcels on that list. If you are commenting about a specific parcel on the list, it would be helpful to provide the parcel's number from the list and all information specifically related to the sale of that parcel.

FOR FURTHER INFORMATION CONTACT: Cynthia R. Swanson, Assistant Director of Lands, Washington Office, 202-205-0099. Individuals who use telecommunication devices for the deaf (TDD) may call the Federal Information Relay Service (FIRS) at 1-800-877-8339 between 8 a.m. and 8 p.m., Eastern Standard Time, Monday through Friday.

SUPPLEMENTARY INFORMATION:

Document Availability

In addition to publishing the full text of this document in the Federal Register, the Forest Service provides all interested persons an opportunity to view and/or print the contents of this document, the potentially eligible lands listing, and associated maps via the Internet. Information on this proposal and the Federal Register Notice can be found at http://www.fs.fed.us via the Secure Rural Schools and Community Self-Determination Act link to the “President's FY 2007 Budget Proposal for the Forest Service—Secure Rural Schools and Community Self-Determination Act Extension” page.

List of Potentially Eligible Lands

The following table has been corrected since the original notice and provides a current summary of the number of acres (rounded) identified for each State.

State | Region(s) | Acres of potentially eligible lands
Alabama | 8 | 2,823
Alaska | 10 | 97
Arizona | 3 | 1,022
Arkansas | 8 | 3,599
California | 5, 6 | 75,959
Colorado | 2, 4 | 23,248
Florida | 8 | 973
Georgia | 8 | 4,523
Idaho | 1, 4, 6 | 26,023
Illinois | 9 | 206
Indiana | 9 | 878
Kentucky | 8 | 4,540
Louisiana | 8 | 3,895
Michigan | 9 | 5,677
Minnesota | 9 | 2,644
Mississippi | 8 | 7,479
Missouri | 9 | 21,712
Montana | 1 | 12,039
Nebraska | 2 | 883
Nevada | 4 | 1,991
New Mexico | 3 | 7,390
North Carolina | 8 | 9,833
Ohio | 9 | 419
Oklahoma | 8 | 3,566
Oregon | 6 | 11,270
South Carolina | 8 | 4,656
South Dakota | 1, 2 | 15,107
Tennessee | 8 | 2,996
Texas | 3, 8 | 4,565
Utah | 4 | 5,894
Virginia | 8 | 5,721
Washington | 6 | 7,425
West Virginia | 9 | 4,827
Wisconsin | 9 | 80
Wyoming | 2, 4 | 17,532
Total All States |  | 301,491

Corrections have been made to the potentially eligible lands listing and supporting maps. Interested parties and commenters are encouraged to revisit the Web pages noted above for the most current information related to this proposal.

Dated: March 27, 2006.
Dale N. Bosworth,
Chief.

[FR Doc. 06-3087 Filed 3-29-06; 8:45 am]

BILLING CODE 3410-11-P